SOCIAL SECURITY ADMINISTRATION

Statement of Organization, Functions and Delegations of Authority

This statement amends Part S of the Statement of the Organization, Functions and Delegations of Authority which covers the Social Security Administration (SSA). This notice transfers the agency Press Office from the Office of the Commissioner to the Office of the Deputy Commissioner, Communications. The new material and changes are as follows:

Section SA.10 The Office of the Commissioner—(Organization):

Delete

F. The Press Office (SAT)

Section SA.20 The Office of the Commissioner—(Functions):

Delete in entirety

F. The Press Office (SAT)

Section TE.00 The Office of Communications—(Mission):

Add second line

Performs SSA Press Office function to ensure a unified and consistent message to the public.

Section TE.10 The Office of the Communications—(Organization):

C. The Immediate Office of the Deputy Commissioner, Communications (TEA)

Add

which includes: 1. The Press Office (TEA-1)

Section TE.20 The Office of the Communications—(Functions):

C. The Immediate Office of the Deputy Commissioner, Communications (TEA), provides the Deputy Commissioner and Assistant Deputy Commissioner with staff assistance on the full range of their responsibilities.

Add

It includes 1. The Press Office (TEA-1)

(a) Guides and coordinates all SSA press activities. It prepares and distributes news releases, fact sheets, and other materials for national distribution and for local release through SSA field offices.

(b) Initiates and maintains contacts with members of the news media and responds to press inquiries and requests from newspapers, radio and television news departments; news and general print magazines, internet news providers, and other specialized press. Advises Agency executives, Regional Communications Directors, Public Affairs Specialists, and other employees on matters related to news media.

(c) Monitors press coverage of Social Security programs and employees, and distributes summaries of media coverage to Agency executives. When appropriate, the Press Office works to correct inaccuracies in coverage.

Dated: August 14, 2003.
Jo Anne B. Barnhart,
Commissioner of Social Security.

[FR Doc. 03-22015 Filed 8-27-03; 8:45 am]

BILLING CODE 4191-02-P